DEPARTMENT OF THE INTERIOR

Bureau of Land Management

[LLORV00000.L10200000.XZ0000.LXSSH1060000.212.HAG 21-0300]

Notice of Public Meetings for the John Day-Snake Resource Advisory Council, Oregon

AGENCY: Bureau of Land Management, Interior.

ACTION: Notice of public meeting.

SUMMARY: In accordance with the Federal Land Policy and Management Act of 1976 and the Federal Advisory Committee Act of 1972, the U.S. Department of the Interior, Bureau of Land Management's (BLM) John Day-Snake Resource Advisory Council (RAC) will meet as follows.

DATES: The John Day-Snake RAC will meet Thursday, October 21, 2021, from 8 a.m. to 1:30 p.m. Pacific Time, and will then host a field tour in the afternoon to the Restoration Fuels Torrefaction Plant until 5:30 p.m. The RAC will reconvene Friday, October 22, 2021, from 8 a.m. to 1 p.m. A public comment period will be offered each day and the meetings and field tour are open to the public in their entirety.

ADDRESSES: The meetings will be held at the Malheur National Forest Supervisor's Office, 431 Patterson Bridge Rd., John Day, OR 97845. The October 21 field tour includes a visit to the Restoration Fuels Torrefaction Plant located at 60339 US-26, John Day, OR 97845. A virtual meeting may substitute for an in-person meeting depending on local health restrictions in place at the time of the meeting. Additional meeting details and a final agenda will be published on the RAC web page at least 10 days in advance of the meetings at https://www.blm.gov/get-involved/resource-advisory-council/near-you/oregon-washington/john-day-rac.

FOR FURTHER INFORMATION CONTACT: Larisa Bogardus, Public Affairs Officer, 3100 H St., Baker City, OR 97814; telephone: 541-219-6863; email: lbogardus@blm.gov. Persons who use a telecommunications device for the deaf (TDD) may call the Federal Relay Service (FRS) at 1 (800) 877-8339 to contact Larisa. The FRS is available 24 hours a day, 7 days a week, to leave a message or question. You will receive a reply during normal business hours.

SUPPLEMENTARY INFORMATION: The 15-member John Day-Snake RAC was chartered by and its members were appointed by the Secretary of the Interior. Its diverse perspectives are represented in commodity, conservation, and general interests. It provides advice to the BLM and, as needed, U.S. Forest Service resource managers regarding management plans and proposed resource actions on public land in the John Day-Snake area.

Agenda items for October 21 include a presentation from the Oregon Department of Fish and Wildlife on mule-deer habitat and upcoming salmon runs; a motorized and non-motorized trail access discussion; a wild horse and burro update; and a fire season overview. The afternoon field tour is to the Restoration Fuels thermal treatment facility where the RAC will learn about methods that utilize tree thinnings and low-value wood materials from stewardship projects in national forests and private-land treatments to produce environmentally friendly fuel for energy. Attending public participants must provide their own transportation and personal amenities for the duration of the field tour. Participants must register to attend the field tour at least 14 days in advance using the contact contained in the FOR FURTHER INFORMATION CONTACT section of this notice. Agenda items for the October 22 meeting include a review of recreation fee proposals for the BLM Prineville District; a Blue Mountain Forest Plan update; and agency updates. Depending on the number of people wishing to address the RAC and the time available, the amount of time for oral public comments may be limited. The public may send written comments to the RAC in response to material presented. Comments can be mailed to the BLM Vale District; Attn. Darrel W. Monger; 100 Oregon St.; Vale, OR 97918. The Designated Federal Officer will attend the meetings, take minutes, and publish detailed meeting minutes on the RAC web page (see the ADDRESSES section earlier).

Before including your address, phone number, email address, or other personal identifying information in your comments, please be aware that your entire comment—including your personal identifying information—may be made publicly available at any time. While you can ask us in your comment to withhold your personal identifying information from public review, we cannot guarantee we will be able to do so.

(Authority: 43 CFR 1784.4-2)

Darrel W. Monger,
Vale District Manager.

[FR Doc. 2021-20290 Filed 9-17-21; 8:45 am]

BILLING CODE 4310-33-P